DEPARTMENT OF THE INTERIOR

National Park Service

[NPS-WASO-NAGPRA-16416; PPWOCRADN0-PCU00RP14.R50000]

Notice of Intent To Repatriate Cultural Items: Arizona State Museum, University of Arizona, Tucson, AZ

AGENCY: National Park Service, Interior.

ACTION: Notice.

SUMMARY: The Arizona State Museum, in consultation with the appropriate Indian tribes or Native Hawaiian organizations, has determined that the cultural items listed in this notice meet the definition of unassociated funerary objects. Lineal descendants or representatives of any Indian tribe or Native Hawaiian organization not identified in this notice that wish to claim these cultural items should submit a written request to the Arizona State Museum. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the Arizona State Museum at the address in this notice by October 10, 2014.

ADDRESSES: John McClelland, NAGPRA Coordinator, P.O. Box 210026, Arizona State Museum, University of Arizona, Tucson, AZ 85721, telephone (520) 626-2950.

SUPPLEMENTARY INFORMATION: Notice is here given in accordance with the Native American Graves Protection and Repatriation Act (NAGPRA), 25 U.S.C. 3005, of the intent to repatriate cultural items under the control of Arizona State Museum, University of Arizona, Tucson, AZ, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In 1968 and 1969, two cultural items were removed from a private residence from an unrecorded site, AZ AA:12:— Tucson Site 14, at a privately-owned trailer park in Pima County, AZ. The legally authorized excavations were conducted by the Arizona State Museum (ASM) under the direction of James Ayres and Walter Birkby. The archeological collections were brought to ASM and accessioned. The two unassociated funerary objects are one bone bead and one clay fragment. The human remains once associated with these objects are missing. Field notes mention the presence of sherds that were not collected. On this basis, the objects are likely dated to the period A.D. 200-1500, which encompasses the Hohokam sequence.

In the years 1936 through 1938, 1,459 cultural items were removed from the Hodges Site AZ AA:12:18(ASM), in Tucson, Pima County, AZ. The legally authorized excavations were conducted by the Gila Pueblo Archaeological Foundation under the direction of Carl Miller and Isabel Kelly. At the end of the excavations, the collections were brought to the Gila Pueblo Archeological Foundation in Globe, AZ. In 1944, the archeological collections were transferred to ASM. The 1,459 unassociated funerary objects are 5 animal bones, 7 bone artifacts, 3 bone awls, 1 bone awl fragment, 126 ceramic bowls, 121 ceramic bowl fragments, 1 ceramic canteen, 3 ceramic censers, 4 ceramic disks, 2 ceramic figurines, 18 ceramic figurine fragments, 105 ceramic jars, 59 ceramic jar fragments, 8 ceramic plates, 3 ceramic plate fragments, 28 ceramic scoops, 645 ceramic sherds, 2 ceramic sherd artifacts, 7 ceramic vessels, 1 chipped stone debris fragment, 3 chipped stone knives, 1 chipped stone scraper, 1 clay fragment, 3 grinding stones, 2 hammer stones, 1 handstone, 1 mineral lot, 3 polishing stones, 12 shells, 2 shell artifacts, 24 lots of shell beads, 2 shell bracelets, 21 shell bracelet fragments, 3 shell fragments, 8 shell pendants, 6 shell pendant fragments, 1 shell ring, 15 stone artifacts, 1 stone axe, 4 lots of stone beads, 24 stone bowls, 13 stone bowl fragments, 3 stone concretions, 1 stone cylinder, 3 stone disks, 27 stone palettes, 8 stone palette fragments, 3 stone palette preforms, 3 stone pendants, 47 stone projectile points, 2 turquoise beads, 1 turquoise fragment, 1 turquoise pendant, 59 turquoise tesserae, and 1 worked ceramic sherd. Hodges Ruin was a large Hohokam village that was occupied from the Hohokam Tortolita to Tanque Verde phases (A.D. 350-1300), based on ceramic typologies.

In 1969 and in 1988-1989, 225 cultural objects were removed from Rabid Ruin AZ AA:12:46(ASM), Pima County, AZ. The legally authorized excavations in 1969 were conducted by ASM under the direction of Laurens Hammack. The legally authorized excavations in 1988-1989 were conducted by Culture and Environmental Systems under the direction of Laurie Slawson. The later excavations were the more extensive of the two projects and were undertaken to mitigate impacts prior to the placement of sewer and water lines through the site. Following completion of each excavation, the archeological collections were brought to ASM and assigned an accession number. The 225 unassociated funerary objects are 2 lots of botanical material, 1 ceramic bowl, 1 ceramic jar fragment, 1 ceramic pitcher, 201 ceramic sherds, 5 chipped stones, 2 shells, 1 lot of shell and stone beads, 3 lots of shell beads, 1 lot of stone beads, 1 stone cylinder, 4 stone projectile points, 1 lot of textile fragments, and 1 turquoise pendant. The Rabid Ruin site was a Hohokam multi-component village and is located on the west bank of the Santa Cruz River on the grounds of the Pima County Animal Control Center (formerly the Rabies Control Center). Based on artifact and ceramic typologies, the site was occupied during the Archaic period through the prehistoric historic transition, (8000 B.C.-A.D. 1500/1700). The principal component was a cemetery with a large number of primary and secondary cremations, dating to the Hohokam Classic period (A.D. 1150-1450), and the cultural items are primarily from this period.

In 1979-1983 and in 1987-1988, 301 cultural items were removed from Los Morteros AZ AA:12:57(ASM), in Pima County, AZ. The legally authorized excavations were conducted in 1979-1983 by ASM under the direction of Richard Lange and William Deaver, and in a separate project in 1987-1988 by the Center for Desert Archaeology under the direction of Mary Bernard-Shaw. Following completion of each excavation, the archeological collections were brought to ASM and assigned an accession number. The 301 unassociated funerary objects are 5 animal bones, 1 ceramic bowl, 1 ceramic jar, 284 ceramic sherds, 1 ceramic vessel, 2 chipped stones, 6 pollen samples, and 1 soil sample. Los Morteros is a large, multi-component village site and the center of an extended community of related sites bordering the Santa Cruz River. The site contained a large ball court, a fortified hillside village, large mounds, stone house foundations, an adobe-walled compound enclosure, and acres of artifact scatter. Occupation at the site began during the Late Archaic/Early Agricultural period, but the most intensive period of occupation was during the Tanque Verde phase of the Hohokam Classic period, from about A.D. 1150 to 1300. Based on the associated funerary object typologies, most of the cultural items likely come from this latter period.

In 1927, five cultural items were removed from the Huntington Site, AZ AA:12:73(ASM), in Pima County, AZ. The legally authorized excavations were conducted by the avocational archeologist Harvey Murdock as part of a seminar in Southwest archeology. The archeological collections were kept by Murdock as a part of his personal collection. In 1969, Murdock's personal collection was donated to the Museum of the Rockies in Idaho. In 1993, Museum of the Rockies transferred the Murdock collection to ASM. The five unassociated funerary objects are four ceramic bowls and one ceramic jar. The Huntington site was a prehistoric settlement and dates to the Early to Middle Rincon phases of the Hohokam cultural sequence (A.D. 950-1150), based on ceramic typologies as well as archaeomagnetic and radiocarbon dating and local stratigraphy. The cultural items appear to be associated with this period.

In 1987, one cultural item was removed from the Lonetree site, AZ AA:12:120(ASM), in Pima County, AZ. The legally authorized excavations were conducted by the Center for Desert Archaeology under the direction of Mary Bernard-Shaw for the American Continental Corporation. Archeological collections were brought to ASM at the conclusion of the excavations and were assigned an accession number. The one unassociated funerary object is a bone awl. The Lonetree Site was identified as a multicomponent site occupied during the Hohokam Pioneer period, A.D. 550-650, the Hohokam Sedentary period, A.D. 940-1150, and during the historical period. The human burials were associated with the prehistoric components of the site.

In the years 1981 to 1987, 64 cultural items were removed from the Redtail Village site, AZ AA:12:149(ASM), in Tucson, Pima County, AZ. The legally authorized test excavations were conducted by Arizona Archeological and Historical Society (AAHS) under the direction of W.D. Hohmann in 1981. A second phase of excavations was conducted in 1983-1987 by the Center for Desert Archaeology under the direction of Mary Bernard-Shaw. In 1995, the collections from the Arizona Archaeological and Historical Society excavations were loaned to ASM for a NAGPRA inventory and were later assigned an accession number. Archeological collections from the Center for Desert Archaeology excavations were brought to the museum at a later date and assigned a separate accession number. The 64 unassociated funerary objects are 16 animal bones, 42 ceramic sherds, 5 chipped stones, and 1 ground stone. The Redtail Village site is a large multi-component site including a cemetery and plaza with multiple burials. While there is evidence at the site of earlier and later occupations, Redtail Village was occupied for the greater part of the Hohokam Colonial period, and was most intensively occupied between A.D. 750-850, based on ceramic typologies.

In 1985, 20 cultural items were removed from the Dairy Site AZ, AA:12:285(ASM), in Pima County, AZ. The legally authorized excavations were conducted by ASM under the direction of John Madsen. The collections were brought to the museum at the end of the field season but no accession number was assigned. The 20 unassociated funerary objects are 3 ceramic sherds, 1 chipped stone, and 16 flotation samples. The Dairy Site is a multi-component site, including Late Archaic through Historical period occupations (2000 B.C.-A.D. 1950). However, the majority of the occupation is associated with the Late Archaic through Early Ceramic component (2000 B.C.-A.D. 650) and the cultural items listed here are likely from this time period.

In 1984, two cultural items were removed from the West Branch Site AZ AA:16:3(ASM), Pima County, AZ. The legally authorized excavations were conducted by the Institute for American Research under the direction of William H. Doelle and Frederick W. Huntington for the Pima County Department of Transportation. After the completion of excavations, the archeological collections were brought to the museum and accessioned. The two unassociated funerary objects are one ceramic scoop and one flotation sample. The West Branch site was a large prehistoric settlement area and has Middle Archaic (4800 B.C.-1500 B.C.), Late Archaic (1500 B.C.-A.D. 200), and Hohokam Pre-Classic Period (A.D. 450-1100) components. The cultural items found likely date to when the site was most intensively occupied during the Hohokam Pre-Classic Period (A.D. 450-1100), based on the ceramic typologies.

Prehistoric settlements in the Tucson Basin of southern Arizona are characterized by archeologists as belonging to two distinctive and consecutive cultural traditions beginning with the Late Archaic/Early Agricultural period and concluding with the Hohokam period. Recent archeological investigations have added support to the hypothesis that the Hohokam tradition arose from the earlier horizon, based on continuities in settlement pattern, architectural technologies, irrigation technologies, subsistence patterns, and material culture. It has been difficult for archeologists to date the beginning of the Hohokam period because the appearance of its distinctive cultural traits, including ceramic technologies and mortuary patterns was a gradual process spanning several hundred years. This adds further support to the hypothesis that the Hohokam tradition evolved in place from earlier Late Archaic traditions. Linguistic evidence furthermore suggests that the Hohokam tradition was multiethnic in nature.

Cultural continuity between these prehistoric occupants of the Tucson Basin and present day O'odham peoples is supported by continuities in settlement pattern, architectural technologies, basketry, textiles, ceramic technology, and ritual practices. Oral traditions that are documented for the Ak Chin Indian Community of the Maricopa (Ak Chin) Indian Reservation, Arizona; Gila River Indian Community of the Gila River Indian Reservation, Arizona; Salt River Pima-Maricopa Indian Community of the Salt River Reservation, Arizona; and the Tohono O'odham Nation of Arizona support cultural affiliation with Late Archaic/Early Agricultural period and Hohokam sites in southern Arizona.

Oral traditions that are documented for the Hopi Tribe also support cultural affiliation with Late Archaic/Early Agricultural period and Hohokam sites in the region. Several Hopi clans and religious societies are derived from ancestors who migrated from the south and likely identified with the Hohokam tradition.

Oral traditions of medicine societies and kiva groups of the Zuni Tribe recount migration from distant portions of the Southwest to present day Zuni and supports affiliation with Hohokam and Late Archaic traditions. Historical linguistic analysis also suggests interaction between ancestral Zuni and Uto-Aztecan speakers during the late Hohokam period.

Determinations Made by the Arizona State Museum

Officials of ASM have determined that:

• Pursuant to 25 U.S.C. 3001(3)(B), the 2,079 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Ak Chin Indian Community of the Maricopa (Ak Chin) Indian Reservation, Arizona; Gila River Indian Community of the Gila River Indian Reservation; Hopi Tribe of Arizona; Salt River Pima-Maricopa Indian Community of the Salt River Reservation, Arizona; Tohono O'odham Nation of Arizona; and Zuni Tribe of the Zuni Reservation, New Mexico.

Additional Requestors and Disposition

Lineal descendants or representatives of any Indian tribe or Native Hawaiian organization not identified in this notice that wish to claim these cultural items should submit a written request with information in support of the claim to John McClelland, NAGPRA Coordinator, P.O. Box 210026, Arizona State Museum, University of Arizona, Tucson, AZ 85721, telephone (520) 626-2950, by October 10, 2014. After that date, if no additional claimants have come forward, transfer of control of the unassociated funerary objects to the Ak Chin Indian Community of the Maricopa (Ak Chin) Indian Reservation, Arizona; Gila River Indian Community of the Gila River Indian Reservation; Hopi Tribe of Arizona; Salt River Pima-Maricopa Indian Community of the Salt River Reservation, Arizona; Tohono O'odham Nation of Arizona; and Zuni Tribe of the Zuni Reservation, New Mexico may proceed.

The Arizona State Museum is responsible for notifying the Ak Chin Indian Community of the Maricopa (Ak Chin) Indian Reservation, Arizona; Gila River Indian Community of the Gila River Indian Reservation; Hopi Tribe of Arizona; Salt River Pima-Maricopa Indian Community of the Salt River Reservation, Arizona; Tohono O'odham Nation of Arizona; and Zuni Tribe of the Zuni Reservation, New Mexico, that this notice has been published.

Dated: August 1, 2014.
Melanie O'Brien,
Acting Manager, National NAGPRA Program.

[FR Doc. 2014-21471 Filed 9-9-14; 8:45 am]

BILLING CODE 4312-50-P